DEPARTMENT OF ENERGY

Federal Energy Regulatory Commission

[Project No. 12187-000, Illinois]

Price Dam Partnership, Limited; Notice of Availability of Environmental Assessment

March 29, 2005.

In accordance with the National Environmental Policy Act of 1969 and the Federal Energy Regulatory Commission (Commission or FERC) regulations contained in the Code of Federal Regulations (CFR) (18 CFR part 380 [FERC Order No. 486, 52 FR 47897]), the Office of Energy Projects staff (staff) has reviewed the application for an original license for the Price Dam Hydroelectric Project, located on the Mississippi River in the city of Alton, Illinois, Wood River Township, Madison County, Illinois. Staff has prepared an Environmental Assessment (EA) for the project. The project would be constructed on the St. Louis District, U.S. Corps of Engineers (Corps) Melvin Price Locks & Dam and would occupy about 1.81 acres of Federal lands and facilities. In this EA, the staff has analyzed the potential environmental effects of the proposed project and has concluded that licensing the project, with staff's recommended measures, would not constitute a major Federal action significantly affecting the quality of the human environment.

Copies of the EA are available for review in the Public Reference Branch, Room 2-A, of the Commission's offices at 888 First Street, NE., Washington, DC 20426. This EA may also be viewed on the Web at http://www.ferc.gov. Using the “e-Library” link, enter the docket number excluding the last three digits in the document field to access the document. For assistance, please contact FERC Online Support at ferconline@ferc.gov, call toll free (866) 208-3676, or TTY (202) 502-8659.

Any comments should be filed within 30 days from the date of this notice and should be addressed to Magalie R. Salas, Secretary, Federal Energy Regulatory Commission, 888 First Street, NE., Washington, DC 20426. Please affix “Price Dam Project No. 12187-000” to all comments. For further information, please contact Lee Emery at (202) 502-8379 or e-mail at lee.emery@ferc.gov.

Comments may be filed electronically via the Internet in lieu of paper. See 18 CFR 385.2001(a)(1)(iii) and the instructions on the Commission's Web site at http://www.ferc.gov under the “e-Filing” link.

Magalie R. Salas,
Secretary.

[FR Doc. E5-1507 Filed 4-4-05; 8:45 am]

BILLING CODE 6717-01-P